DEPARTMENT OF THE INTERIOR

Bureau of Ocean Energy Management

[Docket No. BOEM-2022-0045]

Notice of Availability of a Draft Environmental Impact Statement for Revolution Wind, LLC's Proposed Revolution Wind Farm Offshore Rhode Island

AGENCY: Bureau of Ocean Energy Management, Interior.

ACTION: Notice of availability and request for comments; draft environmental impact statement.

SUMMARY: The Bureau of Ocean Energy Management (BOEM) announces the availability of the draft environmental impact statement (DEIS) for the construction and operations plan (COP) submitted by Revolution Wind, LLC (Revolution Wind) for its proposed Revolution Wind Offshore Wind Farm Project (Project) offshore Rhode Island. The DEIS analyzes the potential environmental impacts of the Project as described in the COP (the proposed action) and the alternatives to the proposed action. This notice of availability (NOA) announces the start of the public review and comment period, as well as the dates and times for public hearings on the DEIS. After the comment period and public hearings, BOEM will publish a final environmental impact statement (FEIS) addressing comments received on the DEIS. The FEIS will inform BOEM's decision whether to approve, approve with modifications, or disapprove the COP.

DATES: Comments must be received no later than October 17, 2022. BOEM will conduct three in-person public hearings and two virtual public hearings. BOEM's in-person public hearings will be held at the following times (eastern time).

• Tuesday, October 4, 2022, 5:00 p.m.;

• Wednesday, October 5, 2022, 5:00 p.m.; and

• Thursday, October 6, 2022, 5:00 p.m.

BOEM's virtual public meetings will be held at the following times (eastern time).

• Thursday, September 29, 2022, 1:00 p.m.; and

• Tuesday, October 11, 2022, 5:00 p.m.

Registration for the public hearings may be completed at https://www.boem.gov/renewable-energy/state-activities/revolution-wind or by calling (504) 736-5713.

ADDRESSES: The DEIS and detailed information about the Project, including the COP, can be found on BOEM's website at: https://www.boem.gov/renewable-energy/state-activities/revolution-wind. Comments can be submitted in any of the following ways:

• Orally or in written form during any of the public hearings identified in this NOA.

• In written form by mail or other delivery service, enclosed in an envelope labeled “Revolution Wind COP DEIS” and addressed to Program Manager, Office of Renewable Energy Programs, Bureau of Ocean Energy Management, 45600 Woodland Road, Sterling, VA 20166.

• Through the regulations.gov web portal: Navigate to http://www.regulations.gov and search for Docket No. BOEM-2022-0045. Click on the “Comment” button below the document link. Enter your information and comment, then click “Submit Comment.”

For more information about submitting comments, please see “Information on Submitting Comments” under the SUPPLEMENTARY INFORMATION heading below.

The in-person meetings will be held at the following locations:

• Tuesday, October 4, 2022—Aquinnah Old Town Hall, 67 State Road, Aquinnah, Massachusetts 02535, 5:00 p.m. EDT

• Wednesday, October 5, 2022—Swift Community Center, 121 Peirce Street, East Greenwich, Rhode Island 02818, 5:00 p.m. EDT

• Thursday, October 6, 2022—Keith Middle School, 225 Hathaway Boulevard, New Bedford, Massachusetts 02740, 5:00 p.m. EDT

Centers for Disease Control and Prevention COVID-19 Community Levels (https://www.cdc.gov/coronavirus/2019-ncov/science/community-levels.html) will be monitored for Dukes County (Martha's Vineyard, MA), Washington County (North Kingstown, RI), and Bristol County (New Bedford, MA). If the COVID-19 Community Level is “MEDIUM” or “HIGH,” BOEM may decide to cancel one or more in-person hearings and hold an additional virtual hearing. Updates will be provided to all meeting registrants via email and on BOEM's website at https://www.boem.gov/renewable-energy/state-activities/revolution-wind. Therefore, early registration for in-person meetings is strongly encouraged.

A registration link for each of the hearings is provided on BOEM's website at: https://www.boem.gov/renewable-energy/state-activities/revolution-wind. Registration for the virtual meetings is required. Webinar information will be sent to registrants via their email address provided during registration.

FOR FURTHER INFORMATION CONTACT: Jessica Stromberg, BOEM Office of Renewable Energy Programs, 45600 Woodland Road, Sterling, Virginia 20166, (703) 787-1730 or jessica.stromberg@boem.gov.

SUPPLEMENTARY INFORMATION:

Proposed Action: Revolution Wind seeks approval to construct, operate, and maintain the Project and its associated export cables on the Outer Continental Shelf (OCS) offshore Rhode Island. The Project would be developed within the range of design parameters outlined in the Revolution Wind COP, subject to applicable mitigation measures. The Project as proposed in the COP would have a maximum capacity ranging between 704 and 880 megawatts, would include up to 100 wind turbine generators, up to 2 offshore, high voltage alternating current substations, inter-array cables linking the individual turbines to the offshore substations, one substation interconnector cable linking the substations to each other, offshore export cables, an onshore export cable system, 1 onshore substation, and connection to the existing electrical grid at The Narragansett Electric Company Davisville Substation in North Kingstown, Rhode Island. The Project would be located on the OCS approximately 15 nautical miles (18 statute miles) southeast of Point Judith, Rhode Island, within an area defined by Renewable Energy Lease OCS-A 0486. The offshore export cables would be buried below the seabed in the U.S. OCS and State of Rhode Island submerged lands. The onshore export cables, substations, and grid connections would be located in North Kingstown, Rhode Island.

Alternatives: BOEM considered 18 alternatives when preparing the DEIS and carried forward 6 alternatives for further analysis in the DEIS. These six alternatives include five action alternatives and the no action alternative. Twelve alternatives were not carried forward because they did not meet the purpose and need for the proposed action or did not meet screening criteria, which are presented in DEIS chapter 2 and appendix K. The screening criteria included consistency with law and regulations; technical and economic feasibility; environmental impacts; and geographic considerations.

Availability of the DEIS: The DEIS, Revolution Wind COP, and associated information are available on BOEM's website at: https://www.boem.gov/renewable-energy/state-activities/revolution-wind. BOEM has distributed digital copies of the DEIS to all parties listed in DEIS appendix H. If you require a digital copy on a flash drive or a paper copy, BOEM will provide one upon request, as long as previously prepared supplies of these materials are available. You may request a flash drive or paper copy of the DEIS by calling (504) 736-5713.

Cooperating Agencies: The following Federal agencies and State governmental entities participated as cooperating agencies in the preparation of the DEIS: Bureau of Safety and Environmental Enforcement; Environmental Protection Agency; National Marine Fisheries Service; U.S. Army Corps of Engineers; U.S. Coast Guard; Massachusetts Office of Coastal Zone Management; Rhode Island Coastal Resources Management Council; and the Rhode Island Department of Environmental Management. The Advisory Council on Historic Preservation; National Park Service; Department of Defense; U.S. Fish and Wildlife Service; and Department of the Navy participated as a participating agency.

Information on Submitting Comments: BOEM does not consider anonymous comments. Please include your name and address as part of your comment. BOEM makes all comments, including your name, address, and other personally identifiable information (PII) included in your comment, available for public review online and during regular business hours. You may request that BOEM withhold your name, address, and any other PII included in your comment from public disclosure. If you wish your name, address, or other PII to be withheld, you must state your request prominently in a cover letter and explain the harm that you fear from disclosure of such information, such as unwarranted privacy invasion, embarrassment, or injury. Under the Freedom of Information Act, BOEM cannot guarantee that it will be able to withhold your information from public disclosure. All submissions from organizations or businesses and from individuals identifying themselves as representatives or officials of organizations or businesses will be made available for public inspection in their entirety.

Authority: 42 U.S.C. 4231 et seq. (NEPA, as amended) and 40 CFR 1506.6.

Karen Baker,
Chief, Office of Renewable Energy Programs, Bureau of Ocean Energy Management.

[FR Doc. 2022-18915 Filed 9-1-22; 8:45 am]

BILLING CODE 4310-MR-P